DEPARTMENT OF THE INTERIOR

Bureau of Land Management

[LLORV00000.L10200000.DF0000. LXSSH1050000.18X.HAG 18-0042]

Notice of Public Meeting for the Southeast Oregon Resource Advisory Council

AGENCY: Bureau of Land Management, Interior.

ACTION: Notice of public meeting.

SUMMARY: In accordance with the Federal Land Policy and Management Act of 1976, and the Federal Advisory Committee Act of 1972, the U.S. Department of the Interior, Bureau of Land Management's (BLM) Southeast Oregon Resource Advisory Council (RAC) will meet as indicated below.

DATES: The Southeast Oregon RAC will hold a public meeting on Thursday, March 15, 2018, from 8 a.m. to 5 p.m. Pacific Daylight Time, and Friday, March 16, 2018, from 8 a.m. to 12:00 p.m. Pacific Daylight Time. A public comment period will be available from 10:45 a.m. to 11:15 a.m. on Friday, March 16, 2018.

ADDRESSES: The meetings will be held at the Harney County Chamber of Commerce, 484 N. Broadway, Burns, OR 97720.

FOR FURTHER INFORMATION CONTACT: Larisa Bogardus, Public Affairs Officer, 1301 S G Street, Lakeview, Oregon 97630; 541-947-6237; lbogardus@blm.gov. Persons who use a telecommunications device for the deaf (TDD) may call the Federal Relay Service (FRS) at 1(800) 877-8339 to contact the above individual during normal business hours. The FRS is available 24 hours a day, 7 days a week, to leave a message or question with the above individual. You will receive a reply during normal business hours.

SUPPLEMENTARY INFORMATION: The 15-member Southeast Oregon RAC is chartered and appointed by the Secretary of the Interior. The members' diverse perspectives are represented in commodity, conservation, and general interests. The RAC provides advice to BLM resource managers regarding management plans and proposed resource actions on public lands in southeast Oregon. All meetings are open to the public.

Agenda items for this meeting include election of 2018 officers; recommendations of management approaches for areas identified by BLM as lands with wilderness characteristics as part of the Vale and Lakeview Districts' respective resource management plan amendment(s) process; national wild horse and burro issues; sage-grouse causal factor analysis; the state sage-grouse resource management plan amendment; tribal consultation; a multi-state fuel breaks project; potential field trips for 2018; and the RAC charter and roles. The final agenda will be posted online at http://www.blm.gov/or/rac/seorrac.php on or before March 8, 2018.

Before including your address, phone number, email address, or other personal identifying information in your comments, please be aware that your entire comment, including your personal identifying information, may be made publicly available at any time. While you can ask us in your comment to withhold your personal identifying information from public review, we cannot guarantee that we will be able to do so.

Authority: 43 CFR 1784.4-2.

Don Gonzalez,
Vale District Manager.

[FR Doc. 2018-03642 Filed 2-21-18; 8:45 am]

BILLING CODE 4310-33-P